DEPARTMENT OF HOMELAND SECURITY

Federal Emergency Management Agency

[Docket ID: FEMA-2013-0045; OMB No. 1660-0047]

Agency Information Collection Activities: Submission for OMB Review; Comment Request; Request for Federal Assistance Form—How to Process Mission Assignments in Federal Disaster Operations

AGENCY: Federal Emergency Management Agency, DHS.

ACTION: Notice.

SUMMARY: The Federal Emergency Management Agency (FEMA) will submit the information collection abstracted below to the Office of Management and Budget for review and clearance in accordance with the requirements of the Paperwork Reduction Act of 1995. The submission will describe the nature of the information collection, the categories of respondents, the estimated burden (i.e., the time, effort and resources used by respondents to respond) and cost, and the actual data collection instruments FEMA will use.

DATES: Comments must be submitted on or before March 20, 2014.

ADDRESSES: Submit written comments on the proposed information collection to the Office of Information and Regulatory Affairs, Office of Management and Budget. Comments should be addressed to the Desk Officer for the Department of Homeland Security, Federal Emergency Management Agency, and sent via electronic mail to oira.submission@omb.eop.gov or faxed to (202) 395-5806.

FOR FURTHER INFORMATION CONTACT: Requests for additional information or copies of the information collection should be made to Director, Records Management Division, 1800 South Bell Street, Arlington, VA 20598-3005, facsimile number (202) 646-3347, or email address: FEMA-Information-Collections-Management@dhs.gov.

SUPPLEMENTARY INFORMATION:

Collection of Information

Title: Request for Federal Assistance Form—-How to Process Mission Assignments in Federal Disaster Operations.

Type of Information Collection: Revision of a currently approved information collection.

OMB Number: 1660-0047.

FEMA Forms: FEMA Form 010-0-7, Resource Request Form; FEMA Form 010-0-8, Mission Assignment.

Abstract: If, during the course of a State's response to a disaster, the State determines that its capacity to respond exceeds its available resources, a request to FEMA for assistance can be made. This request documents how the response requirements exceed the capacity for the State to respond to the situation on its own and what type of assistance is required. FEMA reviews this information and can task other Federal Agencies with a mission assignment to assist the State in its response to the situation.

Affected Public: State, local or Tribal Government.

Estimated Number of Respondents: 10.

Estimated Total Annual Burden Hours: 2,453 hours.

Estimated Cost: The estimated annual cost to respondents for the hour burden is $139,060.57. There are no annual costs to respondents operations and maintenance costs for technical services. There is no annual start-up or capital costs. The cost to the Federal Government is $36,994.20.

Dated: February 7, 2014.
Charlene D. Myrthil,
Director, Records Management Division, Mission Support Bureau, Federal Emergency Management Agency, Department of Homeland Security.

[FR Doc. 2014-03497 Filed 2-14-14; 8:45 am]

BILLING CODE 9110-24-P